DEPARTMENT OF HOMELAND SECURITY

Coast Guard

[USCG-2009-0579]

Merchant Marine Personnel Advisory Committee

AGENCY: Coast Guard, DHS.

ACTION: Notice of open teleconference meeting.

SUMMARY: This notice announces a teleconference of the Merchant Marine Personnel Advisory Committee (MERPAC). The purpose of the teleconference is for MERPAC to discuss and prepare recommendations for the Coast Guard concerning paragraph III.B.1 and III.B.2 of its Task Statement 64, Comprehensive Review of the STCW Convention and the STCW Code. MERPAC provides advice and makes recommendations to the Coast Guard on matters related to the training, qualification, licensing, certification, and fitness of seamen serving in the U.S. merchant marine.

DATES: The teleconference call will take place on Tuesday, July 21, 2009, from 1 p.m. until 3 p.m., EDT.

ADDRESSES: Members of the public may participate by dialing 1-877-950-5410. You will then be prompted to dial your participant passcode, which is “9876776#”. Please ensure that you enter the “#” mark. Public participation is welcome; however, the number of teleconference lines is limited, and lines are available first-come, first-served. Members of the public may also participate by coming to Room 3317, U.S. Coast Guard Headquarters, 2100 Second Street, SW., Washington, DC 20593-0001. We request that members of the public who plan to attend this meeting notify Mr. Jerry Miante at 202-372-1407 no later than July 17, 2009, so that he may notify building security officials.

FOR FURTHER INFORMATION CONTACT: Mr. Jerry Miante, telephone 202-372-1407, fax 202-372-1926.

SUPPLEMENTARY INFORMATION: The Federal Advisory Committee Act requires that public notice of these meetings be announced in the Federal Register [5 U.S.C. App. 2]. MERPAC is chartered under that Act. It provides advice and makes recommendations to the Assistant Commandant for Marine Safety, Security, and Stewardship, on issues concerning merchant marine personnel such as implementation of the International Convention on Standards of Training, Certification and Watchkeeping for Seafarers (STCW), 1978.

Task Statement 64, as well as the document referenced in paragraph III.B.2 of Task Statement 64, may be viewed in our online docket, USCG-2009-0579, at http://www.regulations.gov.

Tentative Agenda:

Tuesday, July 21, 2009

1 p.m.-1:05 p.m.—Welcome and Opening Remarks—MERPAC Chairman Captain Andrew McGovern.

1:05 p.m.-2:15 p.m.—Open discussion concerning paragraphs III.B.1 and III.B.2 of Task Statement 64, Comprehensive Review of the STCW Convention and the STCW Code.

2:15 p.m.-2:45 p.m.—Public comment period.

2:45 p.m.-3 p.m.—MERPAC vote on recommendations for the Coast Guard.

3 p.m.—Adjourn.

This tentative agenda is subject to change and the meeting may adjourn early if all committee business has been completed.

Public Participation

The Chairman of MERPAC is empowered to conduct the teleconference in a way that will, in his judgment, facilitate the orderly conduct of business. During its teleconference, the committee welcomes public comment. The committee will make every effort to hear the views of all interested parties, including the public. Written comments may be submitted to Ms. Mayte Medina, Designated Federal Officer, at Commandant (CG-5221) ATTN MERPAC, US Coast Guard, 2100 Second Street St., STOP 7126, Washington, DC 20593-7126. Comments should be received no later than July 17, 2009.

Information on Services for Individuals With Disabilities

For information on facilities or services for individuals with disabilities or to request special assistance at the meeting, contact Mr. Miante as soon as possible.

Dated: June 24, 2009.
J.G. Lantz,
Director of Commercial Regulations and Standards.

[FR Doc. E9-15561 Filed 6-30-09; 8:45 am]

BILLING CODE 4910-15-P